SOCIAL SECURITY ADMINISTRATION

[Docket No. SSA-2017-0051]

Consolidating the Retirement Research Consortium and the Disability Research Consortium Into the Retirement and Disability Research Consortium

AGENCY: Social Security Administration.

ACTION: Notice.

SUMMARY: We intend to consolidate the current Retirement Research Consortium (RRC) and Disability Research Consortium (DRC) into a single program with a scope equivalent to the two currently existing programs. This single program will address issues related to Supplemental Security Income (SSI), and Retirement, Survivors, and Disability Insurance (RSDI).

FOR FURTHER INFORMATION CONTACT: Nick Love, Office of Research, Evaluation, and Statistics, 6401 Security Boulevard, Baltimore, Maryland 21235-6401, (202) 358-6049. For information on eligibility or filing for benefits, call our national toll-free number, 1-800-772-1213, or TTY 1-800-325-0778, or visit our Internet site, Social Security Online, at http://www.socialsecurity.gov.

SUPPLEMENTARY INFORMATION: The Office of Research, Evaluation, and Statistics anticipates issuing a request for applications (RFA) for the Retirement and Disability Research Consortium (RDRC) during FY18. The RDRC will consolidate the current RRC and DRC into a single program with a scope equivalent to the two current programs. These programs support “centers” at universities and other private research institutions. The centers organize experts from around the country to produce research on Social Security programs and related topics. Both programs consist of five-year agreements and both five-year cycles are set to end in FY 2018. RFAs for the current programs are archived at https://www.ssa.gov/oag/grants/ssagrant_archive.htm. This anticipated single program will address issues related to the SSI and RSDI programs.

We intend to award five-year cooperative agreements to research centers of high merit that provide a comprehensive research program addressing issues in Social Security, retirement, and disability policy. This realignment in the research program will benefit the agency by increasing administrative efficiency and coordination. It may also provide greater flexibility for research centers; we will consider applications from research centers that provide both retirement and disability research as well as from smaller, specialized research centers (e.g., a center focused on issues relevant to the SSI program).

For the anticipated RFA, the Grants Management Official (GMO) will use the policies in 2 CFR 200 in conjunction with the policies and procedures for solicitation, evaluation, and award prescribed in the Social Security Administration's internal Grants Administration Manual. The project period for all cooperative agreements awarded will cover the timeframe of September 2018 through September 2023. Section 1110 of the Social Security Act authorizes the agency to conduct research through cooperative agreements. We will make awards using a competitive review and approval process subject to open and free competition.

The following is an estimated timeline of actions associated with this program:

Action | Date*
1. Release of RFA package | On or about February 2018.
2. Notice of Intent Due Date (Optional) | On or about April 2018.
3. Application Due Date | On or about May 2018.
4. Anticipated Award(s) | On or about September 2018.
* Dates may change based upon administrative approval.

The GMO will publish the agency's RFA, along with any amendments, and relevant questions and answers, electronically through the government-wide point of entry at www.grants.gov. Interested parties can sign up for notifications of funding opportunities at: https://www.grants.gov/web/grants/manage-subscriptions.html.

Nancy A. Berryhill,
Acting Commissioner of Social Security.

[FR Doc. 2017-25528 Filed 11-24-17; 8:45 am]

BILLING CODE 4191-02-P